DEPARTMENT OF STATE

[Public Notice: 11823]

Notification of Meetings of the United States-Peru Environmental Affairs Council, Environmental Cooperation Commission, and Sub-Committee on Forest Sector Governance; Withdrawal

ACTION: Notice; withdrawal.

SUMMARY: The Department of State published a document in the Federal Register on August 17, 2022, concerning meetings of the United States-Peru Environmental Affairs Council, Environmental Cooperation Commission, and Sub-Committee on Forest Sector Governance. The meeting has been postponed.

FOR FURTHER INFORMATION CONTACT: Elizabeth Linske, (202) 344-9852 or Sigrid Simpson, (202) 881-6592.

SUPPLEMENTARY INFORMATION: Withdrawal.

In the Federal Register of August 17, 2022, we withdraw FR Doc 2022-17652. The Department of State will submit an updated meeting notice when the new meeting date is determined.

Sherry Zalika Sykes,
Director, Office of Environmental Quality, Department of State.

[FR Doc. 2022-19996 Filed 9-14-22; 8:45 am]

BILLING CODE 4710-09-P